NATIONAL SCIENCE FOUNDATION

Advisory Panel for Social and Political Science; Notice of Meetings

In accordance with the Federal Advisory Committee Act (Public Law 92-463, as amended), the National Science Foundation announces the following meetings of the Advisory Panel for Social and Political Science (#1761), Committee of Visitors;

Date/Time: April 2, 3, and 4, 2000; 8:00 am to 6:00 pm.

Place: National Science Foundation, 4201 Wilson Boulevard, Rooms 130, 340, 365, 920, and 970, Arlington, VA 22230.

Contact Person: Dr. Frank Scioli and Dr. Marianne Stewart, Program Directors for Political Science, National Science Foundation. (703) 306-1761.

Agenda: To review and evaluate the political science proposals as part of the selection process for awards.

Date/Time: April 2, 3, and 4, 2000; 8:00 am to 6:00 pm.

Place: National Science Foundation, 4201 Wilson Boulevard, Rooms 130, 340, 365, 920, and 970, Arlington, VA 22230.

Contact Person: D. Marie Provine, Program Director, Law and Social Science, National Science Foundation. (703) 306-1762.

Agenda: To review and evaluate the Law and Social Science Proposals as a part of the selection process for awards.

Date/Time: April 2, 3, and 4, 2000; 8:00 am to 6:00 pm.

Place: National Science Foundation, 4201 Wilson Boulevard, Rooms 130, 340, 365, 920, and 970, Arlington, VA 22230.

Contact Person: Patricia White and Murray Webster, National Science Foundation. (703) 306-1756.

Agenda: To review and evaluate the Sociology proposals as a part of the selection process for awards.

Type of Meetings: Closed.

Purpose of Meetings: To provide advice and recommendations concerning support for research proposals submitted to the NSF for financial support.

Reason for Closing: The proposals being reviewed include information of a proprietary or confidential nature, including technical information; financial data, such as salaries; and personal information concerning individuals associated with the proposals. These matters are exempt under 5 U.S.C. 552b(c), (4) and (6) of the Government in the Sunshine Act.

Dated: March 10, 2000.
Karen J. York,
Committee Management Officer.

[FR Doc. 00-6365 Filed 3-14-00; 8:45 am]

BILLING CODE 7555-01-M